DEPARTMENT OF LABOR

Employment and Training Administration

Proposed Collection: Comment Requested

AGENCY: Employment and Training Administration, Labor.

ACTION: Notice.

SUMMARY: As part of its efforts to reduce paperwork and respondent burden the Department of Labor conducts a pre-clearance consultation program to provide the general public and other interested parties with an opportunity to comment on proposed and or/continuing collections of information in accordance with the Paperwork Reduction Act of 1995 (PRA95); 44 U.S.C. 3056(c)(2)(A)]. This program helps ensure that requested information is provided in the desired format, the reporting burden (time and financial resources) is minimized, collection instruments are understood and the impact of the collection requirements on respondents can be assessed. Currently, the Employment and Training Administration (ETA) is soliciting comments on the proposed extension of the existing reporting forms for the Senior Community Service Employment Program (SCSEP).

The ETA is currently preparing regulations that will implement the Older Americans Act Amendments of 2000. When final, these regulations will have a profound impact on the SCSEP and will dramatically alter the program reporting requirements while establishing performance measurement and sanction systems. The new system and the accompanying forms will not be ready for several months. Meanwhile, the Office of Management and Budget's (OMB) approval of the present reporting system will expire. In order to be in compliance with the Paperwork Reduction Act the ETA proposes to extend, without significant change, use of the existing report forms for 12 months.

DATES: Written comments must be received on or before December 5, 2003.

FOR FURTHER INFORMATION COTACT: Ria Moore Benedict, U.S. Department of Labor, Division of Older Worker Programs, Employment and Training Administration, Room S-5206, 200 Constitution Ave. NW., Washington, DC 20210. Telephone number (202) 693-3198 (This is not a toll free number); fax (202) 693-3817.

SUPPLEMENTARY INFORMATION:

I. Background

The SCSEP is authorized by Public Law 106-105, Title V of the Older Americans Act (OAA) Amendments of 2000, “Community Service Employment for Older Americans.” The information collected for the SCSEP is used to administer this program of approximately $445 million which serves nearly 100,000 people each year. The Department uses three reports to administer this program. These reports are; a quarterly report of program performance data, the Quarterly Progress Report (ETA 5140), a quarterly report of financial information, The Financial Status Report (SF 269), and an Equitable Distribution Report (ETA 8705) showing the distribution of program positions by county within each State. In addition a notice, in the form of a poster, is included in the package as a required at OAA section 502(b)(1)(P) (allowable political activities).

II. Desired Focus of Comments

The Department of Labor is particularly interested in comments that:

• Evaluate whether the proposed collection is necessary for the collection of appropriate information on SCSEP activities;

• Evaluate the accuracy of the agency's estimate of the burden of the proposed collection of information, including the validity of the methodology and assumptions used;

• Enhance the quality, utility, and clarity of the collected information; and

• Minimize the collection burden for those who do the reporting, including the use of appropriate electronic, mechanical or other technology.

III. Current Actions

This collection of program and financial information continues to be needed to assure that the requirements of Title V of the Older Americans Act are met. The extension of these forms will allow coverage while the new reporting system and performance measures are developed.

Type of Review: Extension (Without Significant Change).

Agency: Employment and Training Administration.

Title: The Senior Community Service Employment Program Reporting Package.

OMB No.: 1205-0040.

Form No.: ETA 8705, ETA 5140, SF 269, 424 and 424A.

Record Keeping: Agencies maintain records for 3 years after the grant period end.

Affected Public: Non-profit organizations state and local governments.

Total Respondents: 69.

Frequency: Annually or Quarterly as needed.

Hour Burden for Standard Forms and SCSEP Specific Forms
Form | Total respondents | Frequency | Total responses | Average time per hours | Burden hrs.
Quarterly Progress Report ETA 5140 | 69 | Quarterly | 276 | 8 | 2,208
Equitable Distribution report ETA-8705 | 55 | Annually | 55 | 12 | 660
Poster (allowable political activities) | 69 | N/A | 69 | .5 | 35
Total ETA Forms Activity | 69 | Varies | 400 | (¹) | 2,903
Financial Status Report (SF-269) | 69 | Quarterly and Final | 345 | 8 | 2,760
SF 424, 424 A,B | 69 | Annually | 69 | 40 | 2,760
SF Forms | 69 | Quarterly and Final | 414 |  | 5,520
Total ETA & SF Reports | 69 | Varies | 814 |  | 8,423
¹ Varies.

Comments submitted in response to this request will be summarized and/or included in the request for Office of Management and Budget approval of the information collection request; they will also become a matter of public record.

Comments submitted in response to this comment request will be summarized and/or included in the request for Office of Management and Budget approval of the information collection request; they will also become a matter of public record.

Dated: October 1, 2003.
David Dye,
Deputy Assistant Secretary for Employment and Training.

[FR Doc. 03-25287 Filed 10-3-03; 8:45 am]

BILLING CODE 4510-30-P